DEPARTMENT OF THE INTERIOR

National Park Service

Notice of Inventory Completion: U.S. Department of Agriculture, Forest Service, Gila National Forest, Silver City, NM; Correction

AGENCY: National Park Service, Interior.

ACTION: Notice; correction.

Notice is here given in accordance with the Native American Graves Protection and Repatriation Act (NAGPRA), 25 U.S.C. 3003, of the completion of an inventory of human remains and associated funerary objects in the control of the U.S. Department of Agriculture, Forest Service, Gila National Forest, Silver City, NM; and in the former possession of Arizona State Museum, University of Arizona, Tucson, AZ; Field Museum of Natural History, Chicago, IL; Logan Museum of Anthropology, Beloit College, Beloit, WI; Maxwell Museum of Anthropology, University of New Mexico, Albuquerque, NM; Museum of Indian Arts and Culture, Museum of New Mexico, Santa Fe, NM; Ohio Historical Society, Columbus, OH; Peabody Museum of Archaeology and Ethnology, Harvard University, Cambridge, MA; University of Texas at Austin, Austin, TX; and U.S. Department of Agriculture, Forest Supervisor's Office, Gila National Forest, Silver City, NM. The human remains and associated funerary objects were removed from the Gila National Forest, Catron County, NM.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects and supercedes the number of human remains and associated funerary objects reported in three notices: Notice of Inventory Completion published in the Federal Register on July 22, 1998 [FR Doc. 98-19536, pages 39293-39294]; Notice of Inventory Completion correction published in the Federal Register on August 3, 2005 [FR Doc. 05-15316, pages 44686-44687]; and Notice of Inventory Completion correction published in the Federal Register on September 27, 2005 [FR Doc. 05-19265, pages 56483-56484].

A detailed assessment of the human remains was made by Arizona State Museum, University of Arizona; Field Museum of Natural History; Logan Museum of Anthropology, Beloit College; Maxwell Museum of Anthropology, University of New Mexico; Museum of Indian Arts and Culture, Museum of New Mexico; Ohio Historical Society; Peabody Museum of Archaeology and Ethnology, Harvard University; University of Texas at Austin; U.S. Department of Agriculture, Gila National Forest; and U.S. Department of Agriculture, Forest Supervisor's Office, Gila National Forest professional staff in consultation with representatives of the Hopi Tribe of Arizona; Pueblo of Acoma, New Mexico; and Zuni Tribe of the Zuni Reservation, New Mexico.

In August 2005, the Field Museum of Natural Historiy, Chicago, IL, re-examined the human remains and associated funerary objects taken from nine sites in the Gila National Forest, Catron County, NM. In 2005, Gila National Forest, Silver City, NM, also re-examined the human remains and associated funerary objects taken from all sites in the Gila National Forest, Catron County, NM. In light of the findings from re-examination, the original Notice of Inventory Completion and previously corrected Notices of Inventory Completion are superceded by this notice.

In 1935 and 1936, human remains representing a minimum of 51 individuals were removed from Starkweather Ruin in Gila National Forest, Catron County, NM, during legally authorized excavations by Paul H. Nesbitt of Beloit College, Beloit, WI. The human remains were curated at the Logan Museum of Anthropology, Beloit College, Beloit, WI, until 2005 when they were transferred to Gila National Forest. No known individuals were identified. The 139 associated funerary objects are ceramic vessels and sherds, shell and stone jewelry, and a projectile point.

Based on material culture, architecture, and site organization, the Starkweather Ruin has been identified as an Upland Mogollon pithouse village and pueblo occupied between A.D. 500-1300.

Between 1935 and 1955, human remains representing a minimum of 79 individuals were removed from SU site, Oak Springs Pueblo, Tularosa Cave, Apache Creek Pueblo, Turkey Foot Ridge site, Wet Leggett Pueblo, Three Pines Pueblo, and South Leggett Pueblo in Catron County, NM, by Dr. Paul Martin of the Field Museum, Chicago, IL. The human remains were curated at the Field Museum, Chicago, IL, until 2005 when they were transferred to Gila National Forest. No known individuals were identified. The 56 associated funerary objects include ceramic vessels and sherds, stone and shell jewelry, stone and bone tools, and projectile points.

Based on material culture, architecture, and site organization, the eight sites listed in the preceding paragraph have been identified as Upland Mogollon cave, pithouse village, and pueblos occupied between A.D. 300 and A.D. 1300.

In 1955, human remains representing 22 individuals were removed from Apache Creek Pueblo (LA 2949), Catron County, NM, during legally authorized excavations and collections conducted by Stewart Peckham of the Museum of New Mexico as part of a New Mexico Highways Department project. The human remains were curated at the Museum of New Mexico until 2005 when they were transferred to Gila National Forest. No known individuals were identified. The 41 associated funerary objects include ceramic vessels and shell and stone jewelry.

Based on material culture, architecture, and site organization, Apache Creek Pueblo site has been identified as an Upland Mogollon masonry pueblo with pithouses occupied circa A.D. 1100-1350.

In 1987 and 1988, human remains representing a minimum of four individuals were removed from the SU site (LA 64931) and Brown site (LA 68924), Catron County, NM, during legally authorized excavations conducted by Dr. Chip Wills of the University of New Mexico as part of a field school. The human remains were curated at the Maxwell Museum of Anthropology, University of New Mexico until 2005 when they were transferred to Gila National Forest. No known individuals were identified. The 34 associated funerary objects include stone tools and animal bone.

Based on material culture, architecture, and site organization, the SU site (LA 64931) and Brown site (LA 689924) have been identified as an Upland Mogollon village and masonry roomblock occupied circa A.D. 600-1100.

Between 1979 - 1986, human remains representing a minimum of one individual were removed from the WS Ranch site, Catron County, NM, during legally authorized excavations and collections conducted by Dr. James A. Neely of the University of Texas at Austin. The human remains were curated at the University of Texas at Austin until 2005 when they were transferred to Gila National Forest. No known individual was identified. The seven associated funerary objects include lithics, sherds, and ceramic jars. The two ceramic jars were curated at the Forest Supervisor's Office, Gila National Forest, Silver City, NM, until 2005 when they were transferred to Gila National Forest.

Based on material culture, architecture, and site organization, the WS Ranch site has been identified as an Upland Mogollon masonry pueblo occupied between A.D. 1150-1300.

In 1933, human remains representing a minimum of three individuals from Mogollon Village, Catron County, NM, during legally authorized excavations and collections conducted by Dr. Emil Haury of the Gila Pueblo Foundation. The human remains were curated at the Peabody Museum, Harvard University and the Arizona State Museum, University of Arizona until 2005 when they were transferred to Gila National Forest. No known individuals were identified. The eight associated funerary objects include beads and a projectile point fragment.

Based on material culture, architecture, and site organization, the Mogollon Village site has been identified as an Upland Mogollon pithouse village occupied between A.D. 600-1050.

Between 1947 and 1949, human remains representing a minimum of seven individuals were removed from the Jewett Gap site, Catron County, NM, during legally authorized excavations and collections by the Gila Pueblo Foundation. The human remains were curated by the Arizona State Museum, University of Arizona, until 2005 when they were transferred to Gila National Forest. No known individuals were identified. The 18 associated funerary objects include ceramic vessels.

Based on material culture, architecture, and site organization, the Jewett Gap site has been identified as an Upland Mogollon pueblo occupied circa A.D. 1000-1150.

In 1986, human remains representing a minimum of one individual were removed from the Eva Faust site, Catron County, NM, during legally authorized excavations and collections conducted by Dr. James Neely, University of Texas at Austin. The human remains were curated at the Forest Supervisor's Office, Gila National Forest, Silver City, NM. No known individual was identified. No associated funerary objects are present.

Based on material culture, architecture, and site organization, the Eva Faust site has been identified as an Upland Mogollon pithouse village with surface rooms occupied circa A.D. 600-1100.

In 1955, human remains representing a minimum of two individuals were removed from site LA 2948, Catron County, NM, during legally authorized excavations and collections conducted by Edwin N. Ferdon of the Museum of New Mexico. The human remains were curated at the Museum of New Mexico until 2005 when they were transferred to Gila National Forest. No known individuals were identified. The one associated funerary object is a ceramic vessel.

Based on material culture, architecture, and site organization, the sites LA 2947 and LA 2948 have been identified as two Upland Mogollon pithouses occupied between A.D. 200-1000.

In 1971 and 1972, human remains representing a minimum of 34 individuals were removed from sites LA 4988, LA 6082, and LA 6083, Catron County, NM, during legally authorized excavations and collections conducted by David W. Kayser of the Museum of New Mexico. The human remains were curated at the Museum of New Mexico until 2005 when they were transferred to Gila National Forest. No known individuals were identified. The 53 associated funerary objects include ceramic vessels, a stone bowl, and stone tools.

Based on material culture, architecture, and site organization, the sites LA 4988, LA6082, and LA6083 have been identified as Upland Mogollon pueblos and a pithouse occupied circa A.D. 1150-1300.

In 1973, human remains representing a minimum of six individuals were removed without a permit from an unnamed site northwest of Apache Creek by Mr. Brad Triplehorn. Mr. Triplehorn then donated the human remains to the Ohio Historical Society where they were curated until 2005. The human remains then were transferred to Gila National Forest. No known individuals were identified. The 12 associated funerary objects include ceramic sherds and animal bone.

Upland Mogollon villages had pithouses or pueblo-style houses. Most archeological evidence linking Upland Mogollon to present-day Indian tribes relies on ceramics. Continuities of ethnographic materials, technology, and architecture indicate affiliation of the Upland Mogollon with historic and present-day Puebloan cultures. Present-day descendants of the Upland Mogollon are the Hopi Tribe of Arizona; Pueblo of Acoma, New Mexico; and Zuni Tribe of the Zuni Reservation, New Mexico.

Furthermore, the territory of the Upland Mogollon stretched from south-central Arizona to south-central New Mexico. Today, the Upland Mogollon territories are claimed, currently inhabited, or used by the Hopi Tribe of Arizona; Pueblo of Acoma, New Mexico; and Zuni Tribe of the Zuni Reservation, New Mexico. Oral traditions presented by representatives of the Hopi Tribe of Arizona; Pueblo of Acoma, New Mexico; and Zuni Tribe of the Zuni Reservation, New Mexico support cultural affiliation with the Upland Mogollon sites described above in this portion of southwestern New Mexico.

Officials of the U.S. Department of Agriculture, Forest Service, Gila National Forest have determined that, pursuant to 25 U.S.C. 3001 (9-10), the human remains described above represent the physical remains of 210 individuals of Native American ancestry. Officials of the U.S. Department of Agriculture, Forest Service, Gila National Forest have also determined that, pursuant to 25 U.S.C. 3001 (3)(A), the 369 objects described above are reasonably believed to have been placed with or near individual human remains at the time of death or later as part of the death rite or ceremony. Lastly, officials of the U.S. Department of Agriculture, Forest Service, Gila National Forest have determined that, pursuant to 25 U.S.C. 3001 (2), there is a shared group identity that can be reasonably traced between the Native American human remains and the associated funerary objects and the Hopi Tribe of Arizona; Pueblo of Acoma, New Mexico; and Zuni Tribe of the Zuni Reservation, New Mexico.

Representatives of any other Indian tribe that believes itself to be culturally affiliated with the human remains and associated funerary objects should contact Dr. Frank E. Wozniak, NAGPRA Coordinator, Southwestern Region, USDA Forest Service, 333 Broadway Blvd., S.E., Albuquerque, NM 87102; telephone (505) 842-3238, before August 7, 2006. Repatriation of the human remains and associated funerary objects may proceed after that date if no additional claimants come forward.

The U.S. Department of Agriculture, Forest Service, Gila National Forest is responsible for notifying the Hopi Tribe of Arizona; Pueblo of Acoma, New Mexico; and Zuni Tribe of the Zuni Reservation, New Mexico that this notice has been published.

Dated: May 25, 2006.
C. Timothy McKeown,
Acting Manager, National NAGPRA Program.

[FR Doc. E6-10512 Filed 7-5-06; 8:45 am]

BILLING CODE 4312-50-S